DEPARTMENT OF THE INTERIOR

Bureau of Indian Affairs

No Child Left Behind Act of 2001—Membership of the School Facilities and Construction Negotiated Rulemaking Committee

AGENCY: Bureau of Indian Affairs, Interior.

ACTION: Notice.

SUMMARY: As required by the No Child Left Behind Act of 2001, and in compliance with procedures set out in the Negotiated Rulemaking Act, the Secretary of the Interior has appointed members of the committee to prepare and submit a report or reports regarding Bureau-funded school facilities. The Secretary chose from nominations submitted by Indian tribes and others whose students attend Bureau-funded schools (operated either by the Bureau, or by a tribe through a contract or grant). To the maximum extent possible, the proportional representation of tribes on the committee reflects the proportionate share of students from tribes served by the Bureau-funded school facilities. In addition, the Secretary considered the balance of representation with regard to geographical location, size, and type of school and facility, as well as the interests of parents, teachers, administrators, and school board members, in selecting tribal committee representatives. Having considered all nominations, the Secretary appoints the persons named in this notice as committee members.

DATES: Comments must be postmarked or faxed no later than January 11, 2010. For the dates of the first committee meeting, please see the information under the “First Committee Meeting” heading in this notice.

ADDRESSES: Send comments to the Designated Federal Official: Michele F. Singer, Director, Office of Regulatory Affairs & Collaborative Action, Office of the Assistant Secretary—Indian Affairs, 1001 Indian School Road, NW., Suite 312, Albuquerque, NM 87104. Or fax to (505) 563-3811. For the location of the first committee meeting, please see the information under the “First Committee Meeting” heading in this notice.

FOR FURTHER INFORMATION CONTACT: Michele F. Singer, Designated Federal Official. Telephone: (505) 563-3805. Fax: (505) 563-3811.

SUPPLEMENTARY INFORMATION:

Background

The No Child Left Behind Act of 2001 (Pub. L. 107-110), which is codified at 25 U.S.C. 2001 et seq., requires the Secretary to establish a negotiated rulemaking committee to issue a report or reports to the Secretary relating to specific areas of Indian education (see 25 U.S.C. 2018). The Secretary must follow the procedures of negotiated rulemaking under the Negotiated Rulemaking Act (5 U.S.C. 561 et seq.) in a manner that:

(1) Reflects the unique government-to-government relationship between Indian tribes and the United States;

(2) Ensures that the membership of the committee includes only representatives of the Federal Government and of tribes served by Bureau-funded schools;

(3) Ensures, to the maximum extent possible, that the tribal representative membership on the committee reflects the proportionate share of students from tribes served by the Bureau-funded school system; and

(4) Complies with the Federal Advisory Committee Act (5 U.S.C. Appx. 1 et seq.).

In the fall of 2006, the Department sought assistance with this effort from the U.S. Institute for Environmental Conflict Resolution (U.S. Institute). The U.S. Institute conducted a convening assessment and contracted with an independent, impartial convening team, the Consensus Building Institute (CBI), to carry out interviews and prepare a draft convening report. The topics covered in CBI's interviews were: Methods used to catalog school facilities, formulas for prioritizing and funding school replacement construction and new construction, and formulas for prioritizing and funding school renovation and repair. The convening team conducted confidential interviews with tribal officials or their designees, representatives of Bureau-operated or tribally controlled schools, and others with an interest in Bureau-funded school facilities construction. The team also conducted two focus group sessions. Altogether, the team spoke with 198 individuals, representing some 99 different schools. In its final report, CBI provided recommendations to assign committee seats according to the Congressional mandate for proportionality using student enrollment figures from 2006 and also suggested that seats be allocated to other tribes and tribal entities to maximize representation. The Final Convening Report prepared by CBI was released on March 5, 2008, and can be accessed at http://www.ecr.gov/pdf/BIA_FinalConvRpt200803.pdf.

The proposed school facilities negotiated rulemaking committee will prepare and submit to the Secretary of the Interior the following:

(1) A catalog of school facilities that includes the components required by 25 U.S.C. 2005(a)(5)(A)(i)(I)-(V);

(2) A report that determines the school replacement and new construction needs of the interested parties, and a formula for the equitable distribution of funds to address those needs, based on the requirements of 25 U.S.C. 2005(a)(5)(A)(ii);

(3) A report that determines the major and minor renovation needs of the interested parties, and a formula for the equitable distribution of funds to address these needs, based on the requirements of 25 U.S.C. 2005(a)(5)(A)(iii); and

(4) Proposed revisions to the national facilities standards for home-living (dormitory) situations, based on the requirements of 25 U.S.C. 2002(a)(1).

Selection of Committee Members

On October 22, 2008, the Secretary published a request for nominations (73 FR 63008) and, on January 6, 2009, extended the deadline for submitting requests for nominations to January 23, 2009 (74 FR 454). The Secretary received 50 nominations. The Secretary has determined that the proper functioning of the committee requires that the committee be limited to 30 members, as allowed by the Negotiated Rulemaking Act (5 U.S.C. 565).

The Secretary finds that the membership of the committee:

(1) Represents interests that will be significantly affected by the final report (i.e., parents; teachers; school board members; and administrators of Bureau-funded school facilities);

(2) Proportionately represents students from tribes served by Bureau-funded school facilities;

(3) Represents, to the extent possible in a committee of limited size, the diverse sizes, types, and locations of Bureau-funded education facilities; and

(4) Has been selected using a process that considers the nominees' knowledge of school facilities and their repair, renovation and construction; experience with past or present school construction; and relevant skills and abilities.

Appointed Tribal Committee Members

The Secretary appoints the following tribal representatives for the school facilities and construction negotiated rulemaking committee:

Nominee | Tribal affiliation | School facility affiliation
Gregory Anderson | Muscogee (Creek) Nation of Oklahoma | Superintendent, Creek Nation—Eufaula Dormitory.
Janice Azure | Turtle Mountain Band of Chippewa | Councilwoman, Turtle Mountain Band of Chippewa.
Jimmy C. Begay | Navajo Nation | President, Navajo Nation Board of Diné Education.
Gerald Leroy “Jerry” Brown | Confederated Salish and Kootenai Tribe | Chairman, Two Eagle River School Board.
Fred Colhoff | Oglala Sioux Tribe | Facilities Manager, Wounded Knee District School.
Joy Culbreath | Choctaw Nation of Oklahoma | Executive Education Director, Choctaw Nation of Oklahoma.
Judy DeHose | White Mountain Apache Tribe | Executive Assistant—District 1, White Mountain Apache Tribe.
Shirley Gross | 15 Tribes from North Dakota, South Dakota, and Nebraska | Program Coordinator, Pierre Indian Learning Center.
James Hogan | Rosebud Sioux Tribe | School Expansion Liaison, Rosebud Sioux Tribe.
Lester B. Hudson | Navajo Nation | Chief, Executive Officer, Ch'ooshgai Community School.
Frank E. Lujan | Pueblo of Isleta | Lieutenant Governor, Pueblo of Isleta—Tribal Government.
Merrie Miller White Bull | Cheyenne River Sioux Tribe | Tribal Council, Cheyenne River Sioux Tribe.
Betty Ojaye | Navajo Nation | Executive Director, Navajo Preparatory School Inc.
Alfred P. Redman Sr. | Northern Arapaho Tribe | Tribal Education Director, Northern Arapaho Tribe.
Charles M. Roessel | Navajo Nation | Superintendent, Rough Rock Community School.
Andrew M. Tah | Navajo Nation | Superintendent of Schools, Division of Diné Education.
Arthur M. Taylor Jr. | Nez Perce Tribe | Native American Tribal Liaison, University of Idaho.
Jerome Wayne Witt | Oglala Sioux Tribe | Facility Assistant, Loneman School Corporation.
Albert A. Yazzie | Navajo Nation | Educational Consultant, Eastern Navajo.
Dr. Kennith H. York | Mississippi Band of Choctaw Indians | Director, Planning, Mississippi Band of Choctaw Indians.
Lorena Zah Bahe | Navajo Nation | Program Director, Navajo Nation Office of Monitoring, Evaluation and Technical Assistance.
Catherine M. Wright | Hopi Tribe | Director, Hopi Board of Education.

The Secretary appoints the following alternate tribal representatives for the school facilities and construction negotiated rulemaking committee:

Nominee | Tribal affiliation | School facility affiliation
Nancy R. Martine-Alonzo | Navajo Nation | Assistant Secretary of Education for Indian Education, New Mexico Public Education Department.
Margie R.S. Begay | Navajo Nation | President, Lukachukai Community Board of Education.
Faye Blueeyes | Navajo Nation | Program Director, Dzilth-Na-O-Dith-Hle Community Grant School.
Kim R. Clausen-Jensen | Oglala Sioux Tribe | Director, Office of Environmental Protection.
Jerald Scott House | Navajo Nation | Program Manager, Design & Engineering/HUD.
Bryce In The Woods | Cheyenne River Sioux Tribe | Council Representative, Cheyenne River Sioux Tribe.
Fred Leader Charge | Rosebud Sioux Tribe | Operation and Maintenance Coordinator, Rosebud Sioux Tribe.
Alan R. Lovesee | Choctaw Nation of Oklahoma | Director of Congressional Relations, Choctaw Nation of Oklahoma.
Willie Tracey Jr. | Navajo Nation | Council Delegate-Education Committee, Navajo Nation Council.

Appointed Federal Committee Members

The Secretary appoints the following Federal representatives for the school facilities and construction negotiated rulemaking committee:

Name | Affiliation
Michele F. Singer | Designated Federal Official, Office of the Assistant Secretary-Indian Affairs.
John Rever | Director, Facilities, Environmental and Cultural Resources.
David Talayumptewa | Assistant Deputy Director for Administration, Bureau of Indian Education.
James W. Porter | Attorney-Advisor, Office of the Solicitor.

The Secretary expects to name a fifth member to the team of Federal representatives. That member has not been identified, but will probably be a representative of a senior Departmental Official, such as the Assistant Secretary-Indian Affairs, of the Secretary of the Interior.

The Secretary appoints the following alternate Federal representatives for the school facilities and construction negotiated rulemaking committee:

Name | Affiliation
Regina Gilbert | Regulatory Policy Specialist, Office of Regulatory Affairs & Collaborative Action.
Emerson Eskeets | Deputy Director, Bureau of Indian Affairs, Office of Facilities Management and Construction.
Jackie Cheek | Special Assistant to the Director, Bureau of Indian Education.
Brenda Riel | Attorney-Advisor, Office of the Solicitor, Division of Indian Affairs.

First Committee Meeting

The first meeting of the committee is scheduled for January 5-7, 2010. The meeting will begin at 8:30 a.m. (MST) on Tuesday, January 5 and end at 5 p.m. (MST) on Thursday, January 7, 2010. The meeting will be held at the National Indian Program Training Center, 1011 Indian School Road, NW., second floor, Albuquerque, New Mexico 87104.

Invitation To Comment

If you are a tribe with Bureau-funded schools, a regional tribal association, a regional or national Indian education organization, or an interested individual, we invite you to comment on the appointments in this notice. While the comment period briefly overlaps with the first meeting, we will nevertheless consider each and every comment received prior to the date listed in the DATES section.

We will consider only comments that we receive by the close of business on the date listed in the DATES section, at the location indicated in the ADDRESSES section. Comments received will be available for inspection at the address listed above from 8 a.m. to 4 p.m., Monday through Friday, except Federal holidays. Before including your address, phone number, e-mail address or other personal identifying information in your comment, please note that your entire comment—including your personal identifying information—may be made publicly available at any time. While you can ask us in your comment to withhold your personal identifying information from public review, we cannot guarantee that we will be able to do so.

Dated: December 8, 2009.
Ken Salazar,
Secretary of the Interior.

[FR Doc. E9-29674 Filed 12-10-09; 8:45 am]

BILLING CODE 4310-W7-P